NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 9, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-11-11, 1 item, 1 temporary item). Master files of an electronic information system used in the assignment and management of officer personnel, including information used to create officer records briefs.

2. Department of the Army, Agency-wide (N1-AU-11-12, 1 item, 1 temporary item). Master files of an electronic information system containing data used to track personnel and equipment.

3. Department of the Army, Agency-wide (N1-AU-11-13, 1 item, 1 temporary item). Master files of an electronic information system containing daily operations, training, mobilization, planning, support, and administrative task information for the National Guard and Reserves.

4. Department of the Army, Agency-wide (N1-AU-11-19, 1 item, 1 temporary item). Master files of an electronic information system used to automate and reduce the delay and requirements for personnel transfer between agency components. The system contains human resources data for the Army Reserve, Army National Guard, and active Army personnel.

5. Department of Commerce, Economics and Statistics Administration (N1-40-11-1, 2 items, 2 temporary items). Master files, system documentation, and CD-ROM products of an electronic information system containing copies of economic statistical information from contributing Federal agencies. Record copies of the information are maintained permanently in the agencies that created them.

6. Department of Homeland Security, U.S. Immigration and Customs Enforcement (N1-567-11-2, 3 items, 3 temporary items). Master files of an electronic information system containing immigration surety bond submissions by bondsman and verifications of eligibility for release on bond.

7. Department of the Interior, National Business Center (N1-48-10-4, 4 items, 4 temporary items). Records relating to general management activities including vital records plans, memorandums of agreements, and continuity of operations plans.

8. Department of the Interior, Office of Insular Affairs (N1-48-10-5, 1 item, 1 temporary item). Grant case files relating to administrative activities in coordinating Federal policy in American Samoa, Guam, the Virgin Islands, and Northern Marianas.

9. Department of Justice, Bureau of Alcohol, Tobacco, Firearms, and Explosives (N1-436-11-1, 1 item, 1 temporary item). Certificates of Origin for new vehicles ordered by the agency.

10. Department of Labor, Executive Secretariat (N1-174-09-4, 1 item, 1 temporary item). Master files of an electronic information management system used to manage electronic images of internal and external correspondence.

11. Department of the Navy, Naval Criminal Investigative Service (DAA-0526-2010-1, 1 item, 1 temporary item). Reports of assessments and surveys relating to the security of ports, bases, and other installations.

12. Department of State, Bureau of Administration (N1-59-10-22, 2 items, 1 temporary item). Records relating to administrative activities of the Deputy Assistant Secretary (DAS) for Global Information Services. Includes correspondence, reports, presentations, and background materials. Proposed for permanent retention are DAS Program Files.

13. Department of Transportation, Federal Aviation Administration (N1-237-11-1, 3 items, 3 temporary items). Case files relating to fees imposed by public airport agencies to plan, design, and build airport infrastructure improvements and other related records.

14. Department of the Treasury, Internal Revenue Service (N1-58-10-17, 1 item, 1 temporary item). Official forms used to apply to assist non-resident and resident aliens and foreign investors in obtaining an Individual Taxpayer Identification Number.

15. Department of the Treasury, Internal Revenue Service (N1-58-10-18, 4 items, 4 temporary items). Master file, outputs, and system documentation of and electronic information system used to reformat and transfer taxpayer information.

16. Department of the Treasury, Internal Revenue Service (N1-58-10-19, 1 item, 1 temporary item). Copies of official forms used to report violations of financial recordkeeping and reporting regulations.

17. Department of the Treasury, Internal Revenue Service (N1-58-10-20, 1 item, 1 temporary item). Records of the Adjusted Gross Income (AGI) Data Sharing Project, including consent forms authorizing the agency to compile and share data with the Department of Agriculture.

18. Department of the Treasury, Internal Revenue Service (N1-58-10-22, 2 items, 2 temporary items). Master files and system documentation of an electronic information system used to detect potential unauthorized access to the agency's systems.

19. Commodity Futures Trading Commission, Agency-wide (N1-180-09-1, 6 items, 6 temporary items). Administrative policies, procedures, badging, and security system records.

20. Commodity Futures Trading Commission, Agency-wide (N1-180-09-3, 15 items, 14 temporary items). Electronic data and other records associated with an electronic information system that enables the agency to analyze the composition of the market. Proposed for permanent retention are reports generated by the system.

21. National Aeronautics and Space Administration, Agency-wide (N1-255-09-2, 1 item, 1 temporary item). Records relating to general employee suggestions, including background papers, suggestions, approvals, disapprovals, and review processes.

22. National Aeronautics and Space Administration, Agency-wide (N1-255-09-3, 4 items, 3 temporary items). Records relating to NASA training activities, including calendars, schedules, announcements, course descriptions, test results, and certifications. Proposed for permanent retention are unique training materials related to NASA space missions.

23. National Aeronautics and Space Administration, Agency-wide (N1-255-10-1, 8 items, 5 temporary items). Records relating to scientific and technical publications including background papers, local reports, and duplicate copies of reports and publications. Proposed for permanent retention are original publications, scientific and technical databases, and public and internal awareness publications.

24. National Reconnaissance Office, Agency-wide (N1-525-10-3, 1 item, 1 temporary item). Records relating to administrative appeals to release or access information.

25. Pretrial Services Agency, Office of Operations (N1-562-10-2, 1 item, 1 temporary item). Administrative log sheets used to capture daily administration of processes for preparing defendants for court appearances.

26. U.S. International Trade Commission, Office of the Chief Information Officer (N1-81-10-1, 8 items, 4 temporary items). Records include investigative files, audit resolution files, inspection reports, work papers, and administrative documents. Proposed for permanent retention are investigative files with significant historical value, final audit and inspection reports with significant historical value, peer reviews, and semi-annual management reports.

27. Department of the Army, Agency-wide (N1-AU-11-17, 1 item, 1 temporary item). Master files of an electronic information system containing assignment information and personnel data of senior officer personnel and civilian executives.

Dated: January 31, 2011.
Michael J. Kurtz,
Assistant Archivist for Records Services—Washington, DC.

[FR Doc. 2011-2734 Filed 2-4-11; 8:45 am]

BILLING CODE 7515-01-P